DEPARTMENT OF ENERGY

Federal Energy Regulatory Commission

[Docket No. RP03-100-000]

Williams Gas Pipelines Central, Inc.; Notice of Proposed Changes in FERC Gas Tariff

November 29, 2002.

Take notice that on November 22, 2002, Williams Gas Pipelines Central, Inc. (Central) tendered for filing as part of its FERC Gas Tariff, Original Volume No. 1, the following tariff sheet to become effective January 1, 2003:

Twenty-Second Revised Sheet No. 6A

Central states that pursuant to “Order Approving Settlement,” issued by the Commission on April 29, 1998, in Docket No. RP97-149-003, et al. (83 FERC ¶ 61,093 (1998)) and Central's FERC Gas Tariff, Original Volume No. 1, Article 25 of its General Terms and Conditions, Central is filing to reflect the new GRI surcharges to be collected on nondiscounted transportation services for the 2003 calendar year. These funding units were reaffirmed in the Commission's letter order dated September 19, 2002, in Docket No. RP02-354-000.

Central states that copies of this filing have been served on all of Central's jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-30823 Filed 12-5-02; 8:45 am]

BILLING CODE 6717-01-P